FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 26, 2015.

A. Federal Reserve Bank of Atlanta (Chapelle Davis, Assistant Vice President) 1000 Peachtree Street NE., Atlanta, Georgia 30309:

1. 4580 Trust, with Shveta S. Raju and Asha J. Shah as co-trustees; 3490 Trust, with Deep J. Shah and Asha J. Shah as co-trustees; 2764 Trust, with Deep J. Shah and Shveta S. Raju as co-trustees; and Deep J. Shah, all of Duluth, Georgia; to become members of the Shah Family control group, and acquire voting shares of Touchmark Bancshares, Inc., and thereby indirectly acquire voting shares of Touchmark National Bank, both in Alpharetta, Georgia.

B. Federal Reserve Bank of Chicago (Colette A. Fried, Assistant Vice President) 230 South LaSalle Street, Chicago, Illinois 60690-1414:

1. Robert A. Clemente, as Trustee of the OJT Irrevocable Trust dated 09/20/2010, Birmingham, Michigan; to acquire voting shares of Oxford Bank Corporation, and thereby indirectly acquire voting shares of Oxford Bank, both Oxford, Michigan.

Board of Governors of the Federal Reserve System, May 6, 2015.
Michael J. Lewandowski,
Associate Secretary of the Board.

[FR Doc. 2015-11342 Filed 5-11-15; 8:45 am]

BILLING CODE 6210-01-P